DEPARTMENT OF COMMERCE

National Oceanic and Atmospheric Administration

50 CFR Part 679

[Docket No. 981224323-9226-02; I.D. 120198B]

RIN 0648-AL23

Fisheries of the Exclusive Economic Zone Off Alaska; Recordkeeping and Reporting; Correction

AGENCY: National Marine Fisheries Service (NMFS), National Oceanic and Atmospheric Administration (NOAA), Commerce.

ACTION: Final rule; correction.

SUMMARY: This document contains a correction to the final rule for recordkeeping and reporting that was published in the Federal Register on November 15, 1999.

DATES: Effective December 15, 1999.

FOR FURTHER INFORMATION CONTACT: Patsy A. Bearden, 907-586-7008.

SUPPLEMENTARY INFORMATION: A final rule was published in the Federal Register on November 15, 1999 (64 FR 61964), to revise recordkeeping and reporting regulations. The requirement that the operator of a catcher vessel is required to make records available for inspection upon the request of an authorized officer was inadvertently omitted from 50 CFR part 679.

Correction

In the final rule Revisions to Recordkeeping and Reporting Requirements published in 64 FR 61964, November 15, 1999, FR Doc. 99-28294, on page 61974, in the third column, remove § 679.5(a)(13)(i) and add in its place the following:

§ 679.5 [Corrected]

(a) * * *

(13) * * *

(i) Inspection. The operator of a catcher vessel or catcher/processor or mothership or the manager of a shoreside processor or the operator of a buying station must make all logbooks, reports, forms, and mothership-issued fish tickets required under this section available for inspection upon the request of an authorized officer for the time periods indicated in paragraph (a)(13)(ii) of this section.

* * * * *

Dated: June 29, 2000.
Andrew A. Rosenberg,
Deputy Asst. Administrator for Fisheries, National Marine Fisheries Service.

[FR Doc. 00-16940 Filed 7-3-00; 8:45 am]

BILLING CODE 3510-22-F